DEPARTMENT OF COMMERCE

National Oceanic and Atmospheric Administration

50 CFR Part 622

[Docket No. 970730185-7206-02]

RIN 0648-XO98

Fisheries of the Caribbean, Gulf of Mexico, and South Atlantic; Reef Fish Fishery of the Gulf of Mexico; Closure of the 2009 Gulf of Mexico Recreational Fishery for Red Snapper

AGENCY: National Marine Fisheries Service (NMFS), National Oceanic and Atmospheric Administration (NOAA), Commerce.

ACTION: Temporary rule; closure.

SUMMARY: NMFS closes the recreational fishery for red snapper in the exclusive economic zone (EEZ) of the Gulf of Mexico (Gulf). In addition, a person aboard a vessel for which a Federal charter vessel/headboat permit for Gulf reef fish has been issued, must also abide by these closure provisions in state waters if the Federal closure provisions are more restrictive than applicable state law. NMFS has determined this action is necessary to prevent the recreational fishery from exceeding its quota for the fishing year. This closure is necessary to prevent overfishing of Gulf red snapper.

DATES: The closure is effective 12:01 a.m., local time, August 15, 2009, through December 31, 2009. The recreational fishery will reopen on June 1, 2010, the beginning of the 2010 recreational fishing season.

FOR FURTHER INFORMATION CONTACT: Dr. Steve Branstetter, telephone 727-551-5796, fax 727-824-5308, e-mail Steve.Branstetter@noaa.gov.

SUPPLEMENTARY INFORMATION: The red snapper fishery of the Gulf of Mexico is managed under the Fishery Management Plan for the Reef Fish Resources of the Gulf of Mexico (FMP). The FMP was prepared by the Gulf of Mexico Fishery Management Council (Council) and is implemented under the authority of the Magnuson-Stevens Fishery Conservation and Management Act (Magnuson-Stevens Act) by regulations at 50 CFR part 622.

Background

Constraining harvest to the quota is crucial to meeting the legal requirements to prevent and end overfishing and rebuild the red snapper resource of the Gulf of Mexico. On February 28, 2008, new fishing regulations were implemented by NMFS to reduce the harvest and discard of red snapper in the Gulf commercial and recreational directed snapper fishery and shrimp fishery. Regulatory changes for the recreational fishery included reducing the recreational quota to 2.45 million lb (1.11 million kg), reducing the recreational bag limit from 4 to 2 fish per person, prohibiting for-hire captain and crew from retaining bag limits of red snapper while under charter, and reducing the recreational season length from 194 days (April 21-October 31) to 122 days (June 1-September 30).

On March 25, 2008, NMFS announced the Gulf red snapper recreational fishery was being closed effective August 5, 2008, for the remainder of the 2008 fishing year (73 FR 15674). Projections at that time indicated the quota would be met or exceeded by that date due to incompatible regulations with some Gulf states. Despite the early closure and new regulatory measures, 2008 recreational red snapper landings were 3.65 million lb (1.66 million kg)--exceeding the quota by 1.2 million lb (0.5 million kg). This overage was in part due to incompatible regulations with some Gulf states, as well as larger, heavier red snapper being landed in 2008.

In 2009, red snapper state fishing season changes are proposed for the states of Alabama and Florida to further reduce recreational red snapper harvest. Both Florida and Alabama are proposing fishing seasons in state waters consistent with the Federal fishing season. No changes to fishing seasons are proposed for the remaining Gulf states. The fishing season in state waters off Mississippi will be the same as the Federal red snapper season, Louisiana's season currently extends from June 1 through September 30 but compatibility with the Federal fishing season is anticipated, and Texas will maintain a year-round fishing season in state waters.

Using reported landings for 2008, and taking into account state regulatory changes in 2009, NMFS projects the 2009 recreational red snapper quota will be met on August 14, 2009. Therefore, in accordance with 50 CFR 622.43(a), NMFS is closing the recreational red snapper fishery in the Gulf EEZ effective 12:01 a.m. local time on August 15, 2009; the recreational fishery will reopen on June 1, 2010, the beginning of the 2010 recreational fishing season. This quota closure also complies with section 407(d) of the Magnuson-Stevens Act, which requires that the retention of red snapper be prohibited for the remainder of the fishing year once the quota is met.

In addition to the Gulf EEZ closure, as specified in 50 CFR 622.4(a)(1)(iv), a person aboard a vessel for which a Federal charter vessel/headboat permit for Gulf reef fish has been issued must also abide by these closure provisions in state waters if Federal regulations regarding this closure are more restrictive than applicable state law. The closure is intended to prevent overfishing and increase the likelihood that the 2009 quota will not be exceeded. A detailed summary of the quota closure analysis can be found at http://sero.nmfs.noaa.gov/.

Classification

This action responds to the best available information recently obtained from the fishery. The Assistant Administrator for Fisheries, NOAA, finds good cause to waive the requirements to provide prior notice and opportunity for public comment pursuant to the authority set forth in 5 U.S.C. 553(b)(3)(B). Such procedures would be unnecessary because the rule implementing the quota and the associated requirement for closure of the fishery when the quota is reached or projected to be reached already has been subject to notice and comment, and all that remains is to notify the public of the closure. NMFS is mandated by section 407(d) of the Magnuson-Stevens Act, to establish this quota; keep harvest within the quota; and close the fishery when the quota is reached. NMFS also has a legal obligation to keep harvest within the quota limits established by the stock rebuilding plan in the FMP.

Providing prior notice and opportunity for public comment on this action would be contrary to the public interest. Many of those affected by this closure, particularly charter vessel and headboat operations, book trips for clients months in advance and, therefore, need as much time as possible to adjust business plans to account for the closure. Delaying announcement of the closure rule to accommodate prior public notice and comment would result in significantly less advance notice of the definitive closure date; decrease the time available for affected participants to adjust business plans; and be very disruptive. Given the legal obligation to implement this closure in a timely manner, NMFS believes it is important to establish the closure date as soon as possible to allow affected participants the maximum amount of time to adjust their fishing activities consistent with the closure.

This action is taken under 50 CFR 622.43(a) and is exempt from review under Executive Order 12866.

Authority: 16 U.S.C. 1801 et seq.

Dated: May 5, 2009.
Kristen C. Koch,
Acting Director, Office of Sustainable Fisheries, National Marine Fisheries Service.

[FR Doc. E9-10822 Filed 5-7-09; 8:45 am]

BILLING CODE 3510-22-S